DEPARTMENT OF THE INTERIOR

National Park Service

30-Day Notice of Submission to OMB—Opportunity for Public Comment

AGENCY: Department of the Interior, National Park Service, Land and Water Conservation Fund State Assistance and Urban Park and Recreation Recovery Programs.

ACTION: Notice of submission to OMB and request for comments.

SUMMARY: Under the provisions of the Paperwork Reduction Act of 1995 (Pub. L. 104-13, 44 U.S.C. 3507) and 5 CFR 1320, Reporting and Recordkeeping Requirements, the National Park Service invites public comments on eight information collection requests (ICR) for the Land and Water Conservation Fund (LWCF) and Urban Park and Recreation Recovery (UPARRR) grant programs as describes below. Comments are invited on: (1) The need for the information including whether the information has practical utility; (2) the accuracy of the reporting burden estimate; (3) ways to enhance the quality, utility, and clarity of the information to be collected; and (4) ways to minimize the burden of the information collection on respondents, including use of automated collection techniques or other forms of information technology.

1. LWCF Description and Notification (DNF, NPS 10-903, OMB 1024-0031). The DNF is necessary to provide data input into the NPS automated project information system which provides timely data on projects funded over the life of the IWCF program. Respondents: 56 State governments, DC and territories. Estimated Annual Reporting burden: 115 hours. Estimated Average Burden Hours Per Response: 0.25 hours. Estimated Frequency of Response: 450 nationwide.

2. LWCF Program Performance Report (OMB 1024-0032). As required by OMB Circular A-102, grantee must submit performance reports which describe the status of the work required under the project scope. Respondents: 56 State governments, DC and territories. Estimated Annual Reporting Burden: 700 hours. Estimated Average Burden Hours Per Response: 1.0 hours. Estimated Frequency of Response: 700 nationwide.

3. LWCF Project Agreement and Amendment Form (NPS 10-902 and 10-902a, respectively, OMB 1024-0033). The Project Agreement and Amendment Forms set forth the obligations assumed by the State through its acceptance of federal assistance under the LWCF Act and any special terms and conditions. Respondents: 56 State governments, DC and territories. Estimated Annual Reporting Burden: 450 hours. Estimated Average Burden Hours Per Response: 1.0 hours. Estimated Frequency of Response: 450 nationwide.

4. LWCF On-Site Inspection Report (OMB 1024-0034). The On-site Inspection Reports are used to insure compliance by grantees with applicable Federal laws and program guidelines, and to insure the continued viability of the funded site. Respondents: 56 State governments, DC and territories. Estimated Annual Reporting Burden: 3,700 hours. Estimated Average Burden Hours Per Response: 0.5 hours. Estimated Frequency of Response: 7,400 nationwide.

5. LWCF Conversion of Use Provision (OMB 1024-0047). To convert assisted sites to other than public outdoor recreation, LWCF project sponsors must provide relevant information necessary to comply with section 6(f)(3) of the LWCF Act of 1965. Respondents: 56 State governments, DC and territories. Estimated Annual Reporting Burden: 1,750 hours. Estimated Average Burden Hours Per Response: 35 hours. Estimated Frequency of Response: 50 nationwide.

6. UPARR Project Performance Report (OMB 1024-0028). As required by OMB Circular A-102, grant recipients must submit performance reports which describe the status of the work required under the project scope. Respondents: Urban cities and counties. Estimated Annual Reporting Burden: 248 hours. Estimated Average Burden Hours Per Response: 1.5 hours. Estimated Frequency of Response: 164 nationwide.

7. UPARR Conversion of Use Provisions (OMB 1024-0048). To convert assisted sites to other than public outdoor recreation, UPARR project sponsors must provide relevant information necessary to comply with section 1010 of the UPARR Act of 1978. Respondents: Urban Cities and counties. Estimated Annual Reporting Burden: 75 hours. Estimated Average Burden Hours Per Response: 25 hours. Estimated Frequency of Response: 3 nationwide.

8. UPARR Project Agreement and Amendment Form (NPS 10-912 and 10-915, respectively, OMB 1024-0089). The Project Agreement and Amendment forms set forth the obligations assumed by grant recipients through their acceptance of federal assistance under the UPARR Act and any special terms and conditions. Respondents: Urban cities and counties. Estimated Annual Reporting Burden: 20 hours. Estimated Average Burden Hours Per Response: 1.0 hours. Estimated Frequency of Response: 20 nationwide.

There were no public comments received as a result of publishing on September 27, 2000, in the Federal Register a 60-day notice of intention to request clearance for this ICR.

DATES: Public comments on these eight proposed ICRs will be accepted on or before March 17, 2001.

ADDRESSES: Send comments to: Office of Information and Regulatory Affairs of OMB, Attention Desk Officer for the Interior Department, Office of Management and Budget, Washington, DC 20503; and also to Mr. Wayne T. Strum, Chief, Recreation Programs Division, National Park Service (225), P.O. Box 37127, Washington, DC 20013-7127.

Dated: January 24, 2001.
Leonard E. Stowe,
Acting Information Collection Clearance Officer, National Park Service.

[FR Doc. 01-4012 Filed 2-15-01; 8:45 am]

BILLING CODE 4310-70-M